CORPORATION FOR NATIONAL AND COMMUNITY SERVICE

Information Collection; Emergency Submission for OMB Review, Comment Request

AGENCY: Corporation for National and Community Service.

ACTION: Notice.

SUMMARY: The Corporation for National and Community Service (hereinafter the “Corporation”), has submitted an emergency public information collection request (ICR) entitled AmeriCorps State and National Application and Reporting Instructions for Recovery Act Funding, to the Office of Management and Budget (OMB) for review and approval in accordance with the Paperwork Reduction Act of 1995, Public Law 104-13, (44 U.S.C. Chapter 35). A copy of this ICR, with applicable supporting documentation, may be obtained by contacting the Corporation for National and Community Service, AmeriCorps, Amy Borgstrom, Associate Director of Policy, (202) 606-6930, or by e-mail at ABorgstrom@cns.gov. Individuals who use a telecommunications device for the deaf (TTY-TDD) may call (202) 565-2799 between 8:30 a.m. and 5 p.m. Eastern Time, Monday through Friday.

ADDRESSES: Comments may be submitted, identified by the title of the information collection activity, to (1) Corporation for National and Community Service, AND (2) the Office of Information and Regulatory Affairs. Please send comments to:

(1) Corporation for National and Community Service, Attn: Amy Borgstrom, Associate Director of Policy for AmeriCorps, by any of the following two methods within 30 days from the date of publication in this Federal Register:

(a) By fax to: (202) 606-3476, Attention: Amy Borgstrom, Associate Director of Policy for AmeriCorps; and

(b) Electronically by e-mail to: ABorgstrom@cns.gov. AND,

(2) Office of Information and Regulatory Affairs, Attn: Ms. Sharon Mar, OMB Desk Officer for the Corporation for National and Community Service, by any of the following two methods within 30 days from the date of publication in this Federal Register:

(1) By fax to: (202) 395-6974, Attention: Ms. Sharon Mar, OMB Desk Officer for the Corporation for National and Community Service; and

(2) Electronically by e-mail to: smar@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

Description: The purpose of this guidance is to assist current AmeriCorps State and National grantees in accessing American Recovery and Reinvestment Act funds to engage AmeriCorps members and community volunteers in efforts to stimulate the economy through the expansion of current programming or the addition of a new program component, and to report on their activities.

Additional information can be found in OMB's Initial Implementing Guidance for the American Recovery and Reinvestment Act of 2009 dated February 18, 2009, and on the CNCS Recovery Web page (http://www.nationalservice.gov/recovery).

Type of Review: Information collection.

Agency: Corporation for National and Community Service.

Title: AmeriCorps State and National Recovery Act Funding Application and Reporting Instructions.

OMB Number: New.

Agency Number: None.

Affected Public: Nonprofit organizations, State, Local and Tribal.

Total Respondents: 154 applicants and 250 reports. State commissions will submit subgrantee applications; each subgrantee will report separately.

Frequency: Once for application and quarterly for reports.

Average Time per Response: 8 hours for application and 8 hours for reports.

Estimated Total Burden Hours: 1232 hours for application and 8000 for reports.

Total Burden Cost (capital/startup): None.

Total Burden Cost (operating/maintenance): None.

Dated: March 10, 2009.
Lois Nembhard,
Acting Director, AmeriCorps State and National.

[FR Doc. E9-5530 Filed 3-11-09; 8:45 am]

BILLING CODE 6050-$$-P